DEPARTMENT OF COMMERCE

Bureau of Economic Analysis

Proposed Information Collection; Comment Request; Foreign Airline Operators' Revenues and Expenses in the United States

ACTION: Notice.

SUMMARY: The Department of Commerce, as part of its continuing effort to reduce paperwork and respondent burden, invites the general public and other Federal agencies to comment on proposed and/or continuing information collections, as required by the Paperwork Reduction Act of 1995, Public Law 104-13 (44 U.S.C. 3506(c)(2)(A)).

DATES: Written comments must be submitted on or before 5 p.m. June 5, 2006.

ADDRESSES: Direct all written comments to Diane Hynek, Departmental Paperwork Clearance Officer, Department of Commerce, Room 6625, 14th and Constitution Avenue, NW., Washington, DC 20230 (or via the Internet at dhynek@doc.gov).

FOR FURTHER INFORMATION CONTACT: Edward Dozier, Current Account Services Branch, Balance of Payments Division, (BE-58), Bureau of Economic Analysis, U.S. Department of Commerce, Washington, DC 20230; phone: (202) 606-9559; fax: (202) 606-5314; or via the Internet at edward.dozier@bea.gov.

SUPPLEMENTARY INFORMATION:

I. Abstract

The Bureau of Economic Analysis (BEA) is responsible for the compilation of the U.S. international transactions accounts (ITA), which it publishes quarterly in news releases, on its Web site, and in its monthly journal, the Survey of Current Business. These accounts provide a statistical summary of all U.S. international transactions and, as such, are one of the major statistical products of BEA. They are used extensively by both government and private organizations for national and international economic policy formulation and for analytical purposes. The information collected in this survey is used to develop the “transportation” portion of the ITA. Without this information, an integral component of the ITA would be omitted. No other Government agency collects comprehensive quarterly data on foreign airline operators' revenues and expenses in the United States.

The survey requests information from U.S. agents of foreign air carriers operating in the United States. The information is collected on a quarterly basis from foreign air carriers with annual total covered revenues or annual total covered expenses incurred in the United States of $5,000,000 or more. Foreign air carriers with annual total covered revenues and annual total covered expenses each below $5,000,000 are exempt from reporting. There are no changes proposed to the form or instructions.

II. Method of Collection

Form BE-9 is a quarterly report that must be filed within 50 days after the end of each quarter. Potential respondents are U.S. offices, agents, or other representatives of foreign airline operators that transport passengers or freight and express to or from the United States, and that have total covered revenues or total covered expenses incurred in the United States of $5 million or more during the previous year, or are expected to have total covered revenues or total covered expenses of $5 million or more during the current year.

III. Data

OMB Number: 0608-0068.

Form Number: BE-9.

Type of Review: Regular submission.

Affected Public: Businesses or other for-profit organizations.

Estimated Number of Respondents: 60 per quarter; 240 annually.

Estimated Time Per Response: 8 hours.

Estimated Total Annual Burden Hours: 1,920.

Estimated Total Annual Cost: $76,800 (based on an estimated reporting burden of 1,920 hours and an estimated hourly cost of $40).

Respondent's Obligation: Mandatory.

Legal Authority: The International Investment and Trade in Services Survey Act, 22 U.S.C. 3101-3108, as amended.

IV. Request for Comments

Comments are invited on: (a) Whether the proposed collection of information is necessary for the proper performance of the functions of the Agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 30, 2006.
Gwellnar Banks,
Management Analyst, Office of Chief Information Officer.

[FR Doc. E6-4888 Filed 4-4-06; 8:45 am]

BILLING CODE 3510-06-P